DEPARTMENT OF HOUSING AND URBAN DEVELOPMENT

[Docket No. FR-5191-N-07]

Notice of Proposed Information Collection: Comment Request; Comment Request; Hospital—Section 242, Application for Project Mortgage Insurance

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: April 21, 2008.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202)402-8048.

FOR FURTHER INFORMATION CONTACT: Paul Giaudrone, Senior Financial Analyst, Office of Insured Health Care Facilities, Department of Housing and Urban Development, 451 7th Street SW., Washington, DC 20410, telephone (202) 708-0599 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Comment Request; Hospital—Section 242, Application for Project Mortgage Insurance.

OMB Control Number, if applicable: 2502-0518.

Description of the need for the information and proposed use: Information on form HUD-92013-HOSP is collected to provide HUD with the data necessary to determine if a hospital qualifies for FHA insurance under section 242 of the National Housing Act. HUD reviews the information to determine if the proposed project meets basic eligibility criteria, underwriting standards, and adequacy of state and/or local certifications, approvals, and waivers. Information on form HUD-93305-M-H is needed to insure proper recordation of project costs, identify and monitor identity of interests between the Mortgagor and General Contractor, subcontractors, suppliers, or equipment lessors and agree upon procedures when such identity of interests arise, and to insure conformity with the National Housing Act and its Regulations.

Agency form numbers, if applicable: HUD-92013-HOSP and HUD-93305 M-H.

Estimation of the total numbers of hours needed to prepare the information collection including number of respondents, frequency of response, and hours of response: The estimated number of burden hours needed to prepare the information collection is 17,566; the number of respondents is 18 generating approximately 36 annual responses; the frequency of response is on occasion; and the estimated time needed to prepare the response 1009 hours.

Status of the proposed information collection: Extension of a currently approved collection.

Authority: The Paperwork Reduction Act of 1995, 44 U.S.C., Chapter 35, as amended.

Dated: February 14, 2008.
Frank L. Davis,
General Deputy Assistant Secretary for Housing-Deputy Federal Housing Commissioner.

[FR Doc. E8-3144 Filed 2-19-08; 8:45 am]

BILLING CODE 4210-67-P